DEPARTMENT OF TRANSPORTATION

Office of the Secretary

Joint Application of Scenic Airlines, Inc., and Grand Canyon Airlines, Inc., for Certificate Authority

AGENCY: Department of Transportation.

ACTION: Notice of order to show cause (Order 2008-10-9); Docket DOT-OST-2008-0114.

SUMMARY: The Department of Transportation is directing all interested persons to show cause why it should not issue an order finding Grand Canyon Airlines, Inc., fit, willing, and able, and transferring to it the certificate of public convenience and necessity to engage in interstate scheduled air transportation of persons, property, and mail reissued to Scenic Airlines, Inc., by Order 2005-5-10.

DATES: Persons wishing to file objections should do so no later than October 23, 2008.

ADDRESSES: Objections and answers to objections should be filed in Docket DOT-OST-2008-0114 and addressed to U.S. Department of Transportation, Docket Operations, (M-30, Room W12-140), 1200 New Jersey Avenue, SE., West Building Ground Floor, Washington, DC 20590, and should be served upon the parties listed in Attachment A to the order.

FOR FURTHER INFORMATION CONTACT: Damon D. Walker, Air Carrier Fitness Division (X-56, Room W86-465), U.S. Department of Transportation, 1200 New Jersey Avenue, SE., Washington, DC 20590, (202) 366-9721.

Dated: October 9, 2008.
Robert S. Goldner,
Special Counsel to Assistant Secretary for Aviation and International Affairs.

[FR Doc. E8-24576 Filed 10-15-08; 8:45 am]

BILLING CODE 4910-9x-P